FEDERAL COMMUNICATIONS COMMISSION

47 CFR Part 73

[DA 04-1615; MB Docket No. 04-220; RM-10861]

Radio Broadcasting Services; Clayton & Raton, NM

AGENCY: Federal Communications Commission.

ACTION: Proposed rule.

SUMMARY: This document requests comments on a petition for rulemaking filed by Clayton Community Broadcasters requesting the allotment of Channel 248C1 at Clayton, New Mexico. The coordinates for Channel 248C1 at Clayton are 36-27-00 and 103-10-54. To accommodate the allotment at Clayton, we shall also propose the deletion of vacant Channel 248C1 at Raton, New Mexico. If, however, interest is expressed for retention of Channel 248C1 at Raton, New Mexico, during the initial comment cycle, the channel will not be deleted as it is Commission policy not to delete a channel in which interest has been expressed.

DATES: Comments must be filed on or before August 2, 2004, and reply comments on or before August 17, 2004.

ADDRESSES: Secretary, Federal Communications Commission, 445 Twelfth Street, SW., Washington, DC 20554. In addition to filing comments with the FCC, interested parties should serve the petitioner's counsel as follows: Richard J. Hayes, Jr., 8404 Lee's Ridge Road, Warrenton, Virginia 20186.

FOR FURTHER INFORMATION CONTACT: Rolanda F. Smith, Media Bureau, (202) 418-2180.

SUPPLEMENTARY INFORMATION: This is a synopsis of the Commission's Notice of Proposed Rulemaking, MB Docket No. 04-220, adopted June 8, 2004, and released June 10, 2004. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or www.bcpiweb.com.

Provisions of the Regulatory Flexibility Act of 1980 do not apply to this proceeding.

Members of the public should note that from the time a Notice of Proposed Rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New Mexico, is amended by adding Channel 248C1 at Clayton and by removing Channel 248C1 at Raton.

Federal Communications Commission.
John A. Karousos,
Assistant Chief, Audio Division, Media Bureau.

[FR Doc. 04-14487 Filed 6-24-04; 8:45 am]

BILLING CODE 6712-01-P